DEPARTMENT OF HOMELAND SECURITY

Customs and Border Protection

19 CFR Part 101

[USCBP-2006-0057; CBP Dec. 06-23]

Establishment of New Port of Entry at Sacramento, CA; Realignment of the Port Limits of the Port of Entry at San Francisco, CA

AGENCY: Customs and Border Protection; Department of Homeland Security.

ACTION: Final rule.

SUMMARY: This document amends the Department of Homeland Security (DHS) regulations pertaining to the field organization of the Bureau of Customs and Border Protection (CBP) by establishing a new port of entry at Sacramento, California, and terminating the user fee status of Sacramento International Airport. In order to accommodate this new port of entry, this document realigns the port boundaries of the port of entry at San Francisco, California (San Francisco-Oakland), since these boundaries currently encompass area that is included within the new port of Sacramento. This change is part of CBP's continuing program to more efficiently utilize its personnel, facilities, and resources to provide better service to carriers, importers, and the general public.

EFFECTIVE DATES: October 5, 2006.

FOR FURTHER INFORMATION CONTACT: Dennis Dore, Office of Field Operations, 202-344-2776.

SUPPLEMENTARY INFORMATION:

Background

In a Notice of Proposed Rulemaking (NPRM) published in the Federal Register (70 FR 52336) on September 2, 2005, CBP proposed to amend 19 CFR 101.3(b)(1) by establishing a new port of entry at Sacramento, California. In the notice, CBP proposed to include in the port of Sacramento the Sacramento International Airport, currently a user fee airport. In addition, CBP proposed to realign the San Francisco-Oakland port of entry since it includes area within the proposed port of Sacramento.

CBP proposed the establishment of the new port of entry because the Sacramento area satisfies the current criteria for port of entry designations as set forth in Treasury Decision (T.D.) 82-37 (Revision of Customs Criteria for Establishing Ports of Entry and Stations, 47 FR 10137), as revised by T.D. 86-14 (51 FR 4559) and T.D. 87-65 (52 FR 16328). Under these criteria, CBP evaluates whether there is a sufficient volume of import business (actual or potential) to justify the expense of establishing a new office or expanding service at an existing location. The NPRM detailed how the Sacramento area meets the criteria.

Sacramento International Airport currently is a user fee airport. User fee airports, based on the volume of their business, do not qualify for designation as CBP ports of entry. User fee airports are approved by the Commissioner of CBP to receive the services of CBP officers for the processing of aircraft entering the United States and their passengers and cargo on a fully reimbursable basis to be paid for by the airport on behalf of the recipients of the services; the airport pays a fee for the services and then seeks reimbursement from the actual users of those services.

Passenger-processing fees under 19 U.S.C. 58c(a)(5)(B) are collected from passengers at ports of entry. Because a user fee airport pays a fee on a fully reimbursable basis for the services performed by CBP, CBP does not also collect the passenger processing fee. In the notice, CBP proposed to terminate the user fee status of Sacramento International Airport, which would also terminate the system of reimbursable fees for Sacramento International Airport. Thus, if Sacramento International Airport were to become part of a CBP port of entry, the airport would then become subject to the passenger-processing fee provided for at 19 U.S.C. 58c(a)(5)(B).

The current port limits of the San Francisco-Oakland port of entry are described in Treasury Decision (T.D.) 82-9 (47 FR 1286), effective February 11, 1982, and include area within the proposed port of Sacramento. Accordingly, it was proposed that, if Sacramento is established as a port of entry as described in the NPRM, the geographical limits of the port of entry at San Francisco-Oakland would be modified. The port of entry at San Francisco-Oakland, with its modified port description, would continue to meet the criteria for port of entry status.

Analysis of Comments

Fourteen (14) comments were received in response to the September 2, 2005, NPRM. Twelve (12) of these comments were in support of the proposal.

Three (3) commenters who supported the proposal and the two (2) commenters who objected to the proposal raised issues regarding Mather Airport which is located on Mather Boulevard and Highway 50, east of Sacramento. The three commenters who supported the proposal sought “clarification” as to whether Mather Airport was to be included within the boundaries of the new Sacramento port of entry. The two (2) commenters who objected to the proposal were concerned that there would be additional aircraft noise that might occur at Mather Airport if air cargo carrier workload was relocated there from Sacramento International Airport.

Mather Airport, located in Sacramento County just 12 miles from downtown Sacramento, is, in fact, located within the boundaries of the proposed CBP Port of Sacramento, California. Mather Airport has previously been located within the port of entry at San Francisco, California (San Francisco-Oakland). The reassignment of Mather airport from the port of San Francisco to the port of Sacramento will not result in any change in the functioning or processing of aircraft at that facility. CBP has no plans to relocate air cargo carrier workload from Sacramento International Airport to Mather Airport. Therefore, CBP anticipates no additional aircraft noise at Mather Airport as a result of this rule.

To address the issue of noise that might occur at Mather Airport, one of these commenters also requested a comprehensive regional plan and full environmental disclosure pursuant to the California Environmental Quality Act (CEQA) and the National Environmental Policy Act (NEPA). Since Mather Airport is merely being reassigned to the port of Sacramento from the port of San Francisco and CBP has no reason to expect an increase in air cargo carrier workload at Mather Airport as a result of this change, CBP does not anticipate any environmental impact from this rule relating to Mather Airport.

Conclusion

After consideration of the comments received, CBP continues to believe that the establishment of a new port of entry at Sacramento, California, and realignment of the port boundaries of the port of entry at San Francisco, California (San Francisco-Oakland) will assist CBP in its continuing efforts to provide better service to carriers, importers and the general public. Therefore, CBP is establishing the new port of entry of Sacramento to include the territory as proposed in the notice and the port of entry description of San Francisco-Oakland will be revised as proposed in the notice.

Port Description of Sacramento, California

The port limits of the port of entry of Sacramento, California are as follows: (i) The corporate limits of Sacramento, including the adjacent territory comprised of the McClellan and Mather airports in Sacramento County; (ii) all territory on the San Joaquin River in Contra Costa and San Joaquin Counties, to and including Stockton (which includes Stockton Metropolitan Airport); (iii) from Sacramento, southwest along U.S. Interstate 80, east along Airbase Parkway, to and including the territory comprising Travis Air Force Base; (iv) all points on the Sacramento River in Solano, Yolo and Sacramento Counties, from the junction of the Sacramento River with the San Joaquin River in Sacramento County, to and including Sacramento, California; and (v) all points on the Sacramento River Deep Water Ship Channel in Solano, Yolo and Sacramento Counties, (a) from and including, the junction of Cache Slough with the Sacramento River, to and including Sacramento; and (b) from Sacramento northwest along Interstate 5 to Airport Boulevard, north along Airport Boulevard, to and including the territory comprising the Sacramento International Airport in Sacramento County. All of the territory included in the port of Sacramento is located within the State of California.

Revised Port Description of San Francisco-Oakland

The geographical limits of the port of San Francisco-Oakland are realigned to include all the territory within the corporate limits of San Francisco and Oakland and all points on the San Francisco Bay, San Pablo Bay, Carquinez Strait and Suisan Bay.

Sacramento International Airport

Sacramento International Airport is now within the boundaries of the Sacramento port of entry and will no longer be a user fee airport. It will now be subject to the passenger processing fee provided for at 19 U.S.C. 58c(a)(5)(B). The list of user fee airports at 19 CFR 122.15(b) need not be amended because “Sacramento International Airport” is not currently included in that list.

Authority

This change is made under the authority of 5 U.S.C. 301 and 19 U.S.C. 2, 66, and 1624, and section 6 U.S.C. 203 of the Homeland Security Act of 2002, Pub. L. 107-296 (November 25, 2002).

The Regulatory Flexibility Act and Executive Order 12866

With DHS approval, CBP establishes, expands and consolidates CBP ports of entry throughout the United States to accommodate the volume of CBP-related activity in various parts of the country. The Office of Management and Budget has determined that this regulatory action is not significant within the meaning of Executive Order 12866. This action also will not have a significant economic impact on a substantial number of small entities. Accordingly, it is certified that this document is not subject to the additional requirements of the provisions of the Regulatory Flexibility Act (5 U.S.C. 601 et seq.).

Signing Authority

The signing authority for this document falls under 19 CFR 0.2(a) because the establishment of a new port of entry, the modification of the port limits of an existing port of entry, and the termination of the user-fee status of an airport are not within the bounds of those regulations for which the Secretary of the Treasury has retained sole authority. Accordingly, this final rule may be signed by the Secretary of Homeland Security (or his or her delegate).

List of Subjects in 19 CFR Part 101

Customs duties and inspection, Customs ports of entry, Exports, Imports, Organization and functions (Government agencies).

Amendments to Regulations

For the reasons set forth above, part 101 of the regulations (19 CFR part 101), is amended as set forth below.

PART 101—GENERAL PROVISIONS

1. The general authority citation for part 101 and the specific authority citation for section 101.3 continue to read as follows:

Authority: 5 U.S.C. 301; 19 U.S.C. 2, 66, 1202 (General Note 3(i), Harmonized Tariff Schedule of the United States), 1623, 1624, 1646a.

Sections 101.3 and 101.4 also issued under 19 U.S.C. 1 and 58b;

* * * * *

2.The list of ports in section 101.3(b)(1) is amended by adding, in alphabetical order under the State of California “Sacramento” in the “Ports of entry” column and “CBP Dec. 06-23” in the “Limits of Port” column. Also under the State of California, the “Limits of Port” column for “San Francisco-Oakland” will be amended by deleting “Including Benicia, Martinez, Richard, Sacramento, San Jose, and Stockton, T.D. 82-9” and adding “CBP Dec. 06-23.”

Dated: August 25, 2006.
Michael Chertoff,
Secretary.

[FR Doc. 06-7393 Filed 9-1-06; 8:45 am]

BILLING CODE 9111-14-P